NUCLEAR REGULATORY COMMISSION

[Docket No. 40-8681]

International Uranium (USA) Corporation; Notice of Opportunity for Hearing

AGENCY: Nuclear Regulatory Commission.

ACTION: Notice of Receipt of Request from International Uranium Corporation to Amend Source Material License SUA-1358 to Receive and Process Alternate Feed Materials, Notice of Opportunity for Hearing.

SUMMARY: Notice is herby given that the U.S. Nuclear Regulatory Commission has received, by letter dated April 12, 2000, a request from International Uranium (USA) Corporation (IUC) to amend its NRC Source Material License SUA-1358, to allow their White Mesa Uranium Mill near Blanding, Utah, to receive and process up to 140,000 cubic yards of alternate feed material from the W.R. Grace Site located in Chattanooga, Tennessee. The W.R. Grace material is being remediated under the authority of the State of Tennessee and is licensed by the Division of Radiological Health under Source Material License S-3306-E9.

FOR FURTHER INFORMATION CONTACT: Mr. William von Till, Uranium Recovery and Low-Level Waste Branch, Division of Waste Management, Office of Nuclear Material Safety and Safeguards, U.S. Nuclear Regulatory Commission, Mail Stop T7-J8, Washington, DC 20555. Telephone (301) 415-6251.

SUPPLEMENTARY INFORMATION: By its submittal dated April 12, 2000, IUC requested that the NRC amend Materials License SUA-1358 to allow the receipt and processing of material other than natural uranium ore (i.e., alternate feed material) at its White Mesa uranium mill located near Blanding, Utah. These materials would be used as an “alternate feed material” (i.e., matter that is processed in the mill to remove the uranium but which is different from natural uranium ores, the normal feed material).

IUC proposes to receive contaminated materials from the W.R. Grace Site for processing at its uranium mill. This material consists primarily of moist soils containing byproducts (i.e. “tailings”) as a result of thorium and rare earth mineral extraction. The W.R. Grace Site is being remediated under the regulatory authority of the State of Tennessee and the material is licensed by Tennessee as source material under Source Material License S-3306-E9. IUC estimates the amount of material for this amendment request to be up to 140,000 yd.³ The primary radioactive contaminants in the soils are Uranium-238 (U-238), Radium-226 (Ra-226), Radium-228 (Ra-228), Thorium-230 (Th-230), Thorium 232 (Th-232), Potassium-40 (K-40) and their respective decay products. IUC, based on a review of material, states that the weighted average grade of uranium for the W.R. Grace Site is estimated to range from 0.5 to approximately 1.1 weight percent, or greater, with an overall average grade of 0.74 percent uranium (0.87 percent U3O8). IUC estimates the amount of material for this amendment request to be 93,000 to 140,000 yds.³ Actual amounts removed would be determined based on sampling at the time of excavation. W.R. Grace and IUC have determined that no listed hazardous wastes numerated in the U.S. Code of Federal Regulations, Title 40 part 261, Subpart D, as amended by the U.S. Federal Register August 6, 1998, are contained within this material.

The material will be shipped by rail in intermodal containers and then transferred to truck for the part of the trip to the mill. Material would be loaded onto railcars and transported cross-country to the final rail destination, where they will be transferred to truck for the final leg of the trip to the mill (expected to be either near Grand Junction, Colorado; Cisco, Utah; Green River, Utah; or East Carbon, Utah). The material will be shipped as radioactive low specific activity (LSA) Hazard Class 7 Hazardous Material as defined by Department of Transportation regulations.

This application will be reviewed using NRC formal guidance, “Final Position and Guidance on the Use of Uranium Mill Feed Material Other Than Natural Ores” and the guidance contained in the Nuclear Regulatory Commission's Memorandum and Order, International Uranium (USA) Corp., CLI-00-01, (February 10, 2000). The NRC has approved similar amendment requests in the past for separate alternate feed material under this and other licenses.

The amendment application is available for public inspection and copying at the NRC Public Document Room, in the Gelman Building, 2120 L Street N.W., Washington D.C. 20555.

Notice of Opportunity for Hearing

The NRC hereby provides notice of an opportunity for a hearing on the license amendment under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to David L. Meyer, Chief, Rules Review and Directives Branch, Division of Freedom of Information and Publications Services, Office of Administration, U.S. Nuclear Regulatory Commission, Washington DC 20555.

Dated at Rockville, Maryland, this 20th day of April 2000.
For the U.S. Nuclear Regulatory Commission.
Thomas H. Essig,
Chief, Uranium Recovery and Low Level Waste Branch, Division of Waste Management, Office of Nuclear Material Safety and Safeguards.

[FR Doc. 00-11243 Filed 5-4-00; 8:45 am]

BILLING CODE 7590-01-P